DEPARTMENT OF THE INTERIOR

Fish and Wildlife Service

[FWS-R9-MB-2012-N253; 91100-3740-GRNT 7C]

Meeting Announcement: North American Wetlands Conservation Council

AGENCY: Fish and Wildlife Service, Interior.

ACTION: Notice of meeting.

SUMMARY: The North American Wetlands Conservation Council (Council) will meet to select North American Wetlands Conservation Act (NAWCA) grant proposals for recommendation to the Migratory Bird Conservation Commission (Commission). This meeting is open to the public, and interested persons may present oral or written statements.

DATES: Council: Meeting is December 4, 2012, 8:30 a.m. through 4:30 p.m. If you are interested in presenting information at this public meeting, contact the Council Coordinator no later than November 26, 2012.

ADDRESSES: The Council meeting will be held at the National Fish and Wildlife Foundation, 1133 15th Street Suite 1100, Washington, DC 20005.

FOR FURTHER INFORMATION CONTACT: Cynthia Perry, Council Coordinator, by phone at (703) 358-2432; by email at dbhc@fws.gov; or by U.S. mail at U.S. Fish and Wildlife Service, 4401 N. Fairfax Drive, Mail Stop MBSP 4075, Arlington, VA 22203.

SUPPLEMENTARY INFORMATION:

Background

In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA/Standard/US/Overview.shtm.

Proposals require a minimum of 50 percent non-Federal matching funds. If you are interested in presenting information at this public meeting, contact the Council Coordinator no later than the date under DATES.

Meeting

The Council will consider U.S. standard grant proposals at the meeting announced in DATES. The Commission will consider the Council's recommendations at its meeting tentatively scheduled for March 13, 2013.

Public Input

If you wish to:

Attend the Council meeting, you must contact the Council Coordinator (see FOR FURTHER INFORMATION CONTACT) no later than November 26, 2012.

Submit written information or questions before the Council meeting for consideration during the meeting November 26, 2012.

Give an oral presentation during the Council meeting November 26, 2012.

Submitting Written Information or Questions

Interested members of the public may submit relevant information or questions for the Council to consider during the public meeting. If you wish to submit a written statement, so that the information may be made available to the Council for their consideration prior to this meeting, you must contact the Council Coordinator by the date above. Written statements must be supplied to the Council Coordinator in both of the following formats: One hard copy with original signature, and one electronic copy via email (acceptable file formats are Adobe Acrobat PDF, MS Word, MS PowerPoint, or rich text file).

Giving an Oral Presentation

Individuals or groups requesting to make an oral presentation at the Council meeting will be limited to 2 minutes per speaker, with no more than a total of 30 minutes for all speakers. Interested parties should contact the Council Coordinator by the date above, in writing (preferably via email; see FOR FURTHER INFORMATION CONTACT), to be placed on the public speaker list for either of these meetings. Nonregistered public speakers will not be considered during the Council meeting. Registered speakers who wish to expand upon their oral statements, or those who had wished to speak but could not be accommodated on the agenda, are invited to submit written statements to the Council within 30 days following the meeting.

Meeting Minutes

Summary minutes of the Council and meeting will be maintained by the Council Coordinator at the address under FOR FURTHER INFORMATION CONTACT. Council meeting minutes will be posted at http://www.fws.gov/birdhabitat/Grants/NAWCA/CouncilAct.shtm#CouncilMeet within 30 days following the meeting. Personal copies may be purchased for the cost of duplication.

Dated: November 26, 2012.
Jerome Ford,
Assistant Director, Migratory Birds.

[FR Doc. 2012-29254 Filed 12-3-12; 8:45 am]

BILLING CODE 4310-55-P